DEPARTMENT OF TRANSPORTATION

Federal Aviation Administration

14 CFR Part 95

[Docket No. 30221; Amdt. No. 426]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, January 25, 2001.

FOR FURTHER INFORMATION CONTACT: Donald P. Pate, Flight Procedure Standards Branch (AMCAFS-420), Flight Technologies and Programs Divisions, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, D.C. on December 12, 2000.
L. Nicholas Lacey,
Director, Flight Standards Service.

Adoption for the Amendment

Accordingly, pursuant to the authority delegated to me by the Administrator, part 95 of the Federal Aviation Regulations (14 CFR part 95) is amended as follows effective at 0901 UTC.

Part 95—[AMENDED]

1. The authority citation for part 95 continues to read as follows:

Authority: 49 U.S.C. 106(g), 40103, 40106, 40113, 40114, 40120, 44502, 44514, 44719, 44721.

2. Part 95 is amended to read as follows:

Revisions to I.F.R. Altitudes & Changeover Points
[Amendment 426 effective date: January 25, 2001]
From | To | MEA
Color Routes
§ 95.10 Amber Federal Airway 7 Is Amended To Read in Part
CAMPBELL LAKE, AK NDB | MINERAL CREEK, AK NDB | 12000
§ 95.1001 District Routes—U.S.
Atlantic Routes—AR001 Is Amended To Read in Part
TORRY, FL FIX | *METTA, SC FIX | 25000
*18000—MRA |  |
MAA—45000 |  |
Atlantic Routes—AR003 Is Amended To Read in Part
OLDEY, SC FIX | *PANAL, OA FIX | 2500
*18000—MRA |  |
MAA—45000 |  |
PANAL, OA FIX | CAROLINA BEACH, NC NDB | 2500
MAA—45000 |  |
Atlantic Routes—AR004 Is Amended To Read in Part
Ashly, SC NDB | *METTA, SC FIX
*18000—MRA |  |
Atlantic Routes—AR007 Is Amended To Read in Part
ADOOR, FL FIX | *MILOE, OA FIX | 25000
*18000—MRA |  |
MAA—45000 |  |
MILOE, OA FIX | *PANAL, OA FIX | 2500
*18000—MRA |  |
MAA—45000 |  |
PANAL, OA FIX | DIXON, NC NDB/DME | 2500
MAA—45000 |  |
Atlantic Routes—AR014 Is Amended To Read in Part
*METTA, SC FIX | DIXON, NC NDB/DME | 18000
MAA—45000 |  |
*18000—MRA |  |
§ 95.6001 Victor Routes—U.S.
§ 95.6066 VOR Federal Airway 66 Is Amended To Delete
ABILENE, TX VORTAC | BOWIE, TX VORTAC | 3500
BOWIE, TX VORTAC | BONHAM, TX VORTAC | 3700
BONHAM, TX VORTAC | SULPHUR SPRINGS, TX VOR/DME | 2500
SULPHUR SPRINGS, TX VOR/DME | TEXARKANA, AR VORTAC | 2000
§ 95.6069 VOR Federal Airway 69 Is Amended To Delete
BELCHER, LA VORTAC | *COTTA, LA FIX | 2000
*3000—MRA |  |
COTTA, LA FIX | *GOURD, LA FIX | 2000
*3000—MRA |  |
GOURD, LA FIX | EL DORADO, AR VORTAC | 20000
§ 95.6094 VOR Federal Airway 94 Is Amended To Read in Part
DEMING, NM VORTAC | *MOLLY, NM FIX | **9000
**1000—MRA |  |
**7700—MOCA |  |
§ 95.6163 VOR Federal Airway 131 Is Amended To Delete
MC ALESTER, OK VORTAC | BASAY, OK FIX | 2700
HOFFE, OK FIX | OKMULGEE, OK VOR/DME | 2600
§ 95.6163 VOR Federal Airway 163 Is Amended To Delete
GLEN ROSE, TX VORTAC | MILLSAP, TX VORTAC | 3000
MILLSAP, TX VORTAC | BOWIE, TX VORTAC | *3000
*2500—MOCA |  |
BOWIE, TX VORTAC | ARDMORE, OK VORTAC | 3000
ARDMORE, OK VORTAC | WILL ROGERS, OK VORTAC | 3000
§ 95.6208 VOR Federal Airway 208 Is Amended To Read in Part
HANKSVILLE, UT VORTAC | CARBON, UT VOR/DME | 10000
§ 95.6305 VOR Federal Airway 305 Is Amended To Delete
BELCHER, LA VORTAC | *COTTA, LA FIX | 2000
*3000—MOCA |  |
COTTA, LA FIX | *FOSTE, LA FIX | 2000
*3500—MRA |  |
FOSTE, LA FIX | EL DORADO, AR, VORTAC | 2000
§ 95.6358 VOR Federal Airway 358 Is Amended To Read in Part
SAN ANTONIO, TX VORTAC | GUADA, TX FIX | *4000
*2700—MOCA |  |
GUADA, TX FIX | STONEWALL, TX VORTAC | 4000
§ 95.6358 VOR Federal Airway 358 Is Amended To Delete
WACO, TX VORTAC | GLEN ROSE, TX VORTAC | 3000
GLEN ROSE, TX VORTAX | MILLSAP, TX VORTAC | 3000
MILLSAP, TX VORTAC | BOWIE, TX VORTAC | *3000
*2500—MOCA |  |
BOWIE, TX VORTAC | ARDMORE, OK VORTAC | 3000
ARDMORE, OK VORTAC | ALEXX, OK FIX | 3000
ALEXX, OK FIX | CAMAF, CA FIX | 3000
CAMAF, CA FIX | WILL ROGERS, OK VORTAC | 3000
§ 95.6382 VOR Federal Airway 382 Is Amended To Delete
BRYCE CANYON, UT VORTAC | *GREEL, UT FIX | **16000
*10000—MAA |  |
*13300—MOCA |  |
GREEL, UT FIX | *SAKES, UT FIX | **16000
*1400—MCA SAKES, UT FIX, SW BND |  |
*13300—MOCA |  |
SAKES, UT FIX | GRAND JUNCTION, CO VORTAC | *11000
*9200—MOCA |  |
§ 95.6457 VOR Federal Airway 457 Is Amended To Read
ILIAMNA, AK NDB/DME | *AWOMY, AK FIX | **5300
| W BND | *5300
| E BND | *9000
*7000—MCA AWOMY FIX | E BND |
*5300—MOCA |  |
AWOMY, AK FIX | *MOFOF, AK FIX | 9000
*7000—MCA MOFOF FIX | W BND |
MOFOF, AK FIX | KENAI, AK VOR/DME |
| W BND | *3000
| E BND | *9000
*2700—MOCA |  |
§ 95.6568 VOR Federal Airway 568 Is Amended To Read in Part
SAN ANTONIO, TX VORTAC | GUADA, TX FIX | *4000
*2700—MOCA |  |
GUADA, TX FIX | STONEWALL, TX VORTAC | 4000

From | To | MEA | MAA
§ 95.7001 Jet Routes
§ 95.7151 Jet Route No. 151 Is Amended To Read in Part
VULCAN, AL VORTAC | FARMINGTON, MO VORTAC | 25000 | 41000

From | To | Changeover points: Distance | Changeover points: From
95.8003 VOR Federal Airway Changeover Points
ALASKA V-457 Is Added To Read
ILAMNA, AK NDB/DME | KENAI, AK VOR/DME | 47 | ILIAMNA

[FR Doc. 00-32178 Filed 12-15-00; 8:45 am]

BILLING CODE 4910-13-M